DEPARTMENT OF ENERGY

Federal Energy Regulatory Commission

Combined Notice of Filings #1

Take notice that the Commission received the following electric rate filings:

Docket Numbers: ER13-1069-003.

Applicants: MP2 Energy LLC.

Description: Amendment to be effective 5/15/2013.

Filed Date: 5/14/13.

Accession Number: 20130514-5082.

Comments Due: 5 p.m. ET 6/4/13.

Docket Numbers: ER13-1484-000.

Applicants: PJM Interconnection, L.L.C.

Description: Queue Position #X4-023—Original Service Agreement No. 3555 to be effective 4/11/2013.

Filed Date: 5/13/13.

Accession Number: 20130513-5203.

Comments Due: 5 p.m. ET 6/3/13.

Docket Numbers: ER13-1485-000.

Applicants: Wheelabrator Baltimore, L.P.

Description: Market-Based Rate Tariff Application to be effective 7/1/2013.

Filed Date: 5/13/13.

Accession Number: 20130513-5246.

Comments Due: 5 p.m. ET 6/3/13.

Docket Numbers: ER13-1486-000.

Applicants: Northern States Power Company, a Minnesota corporation.

Description: 2013-05-14_SMMPA Byron TR9 Replcmnt Agrmt-554 to be effective 4/10/2013.

Filed Date: 5/14/13.

Accession Number: 20130514-5016.

Comments Due: 5 p.m. ET 6/4/13.

Docket Numbers: ER13-1487-000.

Applicants: Quantum Auburndale Power, LP.

Description: Quantum Auburndale Power, LP—initial baseline filing to be effective 5/14/2013.

Filed Date: 5/14/13.

Accession Number: 20130514-5017.

Comments Due: 5 p.m. ET 6/4/13.

Docket Numbers: ER13-1488-000.

Applicants: Quantum Pasco Power, LP.

Description: Quantum Pasco Power, LP—initial baseline filing to be effective 5/14/2013.

Filed Date: 5/14/13.

Accession Number: 20130514-5019.

Comments Due: 5 p.m. ET 6/4/13.

Docket Numbers: ER13-1489-000.

Applicants: Quantum Lake Power, LP.

Description: Quantum Lake Power, LP Market-Based Rates Tariff to be effective 5/14/2013.

Filed Date: 5/14/13.

Accession Number: 20130514-5020.

Comments Due: 5 p.m. ET 6/4/13.

Docket Numbers: ER13-1490-000.

Applicants: Northern States Power Company, a Minnesota corporation.

Description: 2013-05-14_SMMPA Byron CapX Agrmt-553 to be effective 4/10/2013.

Filed Date: 5/14/13.

Accession Number: 20130514-5029.

Comments Due: 5 p.m. ET 6/4/13.

Docket Numbers: ER13-1491-000.

Applicants: GDF SUEZ Energy Marketing NA, Inc.

Description: GDF SUEZ Energy Marketing NA, Inc's requests a one-time, limited waiver of the procedural deadlines set forth in Section 5.14(h)(8) of the Reliability Pricing Model rules of PJM Interconnection, L.L.C.

Filed Date: 5/14/13.

Accession Number: 20130514-4001.

Comments Due: 5 p.m. ET 5/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2013.
Nathaniel J. Davis, Sr.,
Deputy Secretary.

[FR Doc. 2013-12132 Filed 5-21-13; 8:45 am]

BILLING CODE 6717-01-P